DEPARTMENT OF COMMERCE

International Trade Administration

[A-475-829]

Notice of Final Determination of Sales at Less Than Fair Value: Stainless Steel Bar From Italy

AGENCY: Import Administration, International Trade Administration, Department of Commerce.

ACTION: Notice of Final Determination of Sales at Less Than Fair Value.

SUMMARY: The Department of Commerce is conducting an antidumping duty investigation of stainless steel bar from Italy. We determine that stainless steel bar from Italy is being, or is likely to be, sold in the United States at less than fair value, as provided in section 735(a) of the Tariff Act of 1930, as amended. On August 2, 2001, the Department of Commerce published its preliminary determination of sales at less than fair value of stainless steel bar from Italy. Based on the results of verification and our analysis of the comments received, we have made changes in the margin calculations. Therefore, this final determination differs from the preliminary determination. The final weighted-average dumping margins are listed below in the section entitled “Continuation of Suspension of Liquidation.”

EFFECTIVE DATE: February 23, 2002.

FOR FURTHER INFORMATION CONTACT: Jarrod Goldfeder, Melani Miller, or Anthony Grasso, Import Administration, International Trade Administration, U.S. Department of Commerce, 14th Street and Constitution Avenue, NW., Washington, DC 20230; telephone: (202) 482-0189, (202) 482-0116, or (202) 482-3853, respectively.

SUPPLEMENTARY INFORMATION:

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2000).

Case History

Since the publication of the preliminary determination in this investigation (see Notice of Preliminary Determination of Sales at Less Than Fair Value and Postponement of Final Determination: Stainless Steel Bar From Italy, 66 FR 40214 (August 2, 2001) (“Preliminary Determination”)), the following events have occurred:

In August through September 2001, we conducted verifications of the questionnaire responses submitted by Acciaierie Valbruna Srl/Acciaierie Bolzano S.p.A. (“Valbruna”), Acciaiera Foroni SpA (“Foroni”), Trafilerie Bedini, Srl (“Bedini”), and Rodacciai S.p.A. (“Rodacciai”) (collectively, “the respondents”). We issued verification reports in October and November 2001. See “Verification” section of this notice for further discussion.

The petitioners and respondents filed case and rebuttal briefs, respectively, on November 21 and November 28, 2001. A public hearing was held at the request of the petitioners on December 5, 2001.

Although the deadline for this determination was originally December 17, 2001, in order to accommodate certain verifications that were delayed because of the events of September 11, 2001, the Department tolled the final determination deadline in this and the concurrent stainless steel bar investigations until January 15, 2002.

Scope of the Investigation

For purposes of this investigation, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this investigation is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this investigation is dispositive.

Prior to the preliminary determinations in these investigations, the respondents in this and the companion SSB investigations filed comments seeking to exclude certain products from the scope of these investigations. The specific products identified in their exclusion requests were: stainless steel tool steel, welding wire, special-quality oil field equipment steel (SQOFES), and special profile wire.

In the preliminary determinations, we concluded that all of these products, except for special profile wire, are within the scope of these investigations. Specifically, regarding stainless steel tool steel, welding wire, and SQOFES, after considering the respondents' comments and the petitioners' objections to the exclusion requests, we preliminarily determined that the scope is not overly broad. Therefore, stainless steel tool steel, welding wire, and SQOFES are within the scope of these SSB investigations. In addition, we preliminarily determined that SQOFES does not constitute a separate class or kind of merchandise from SSB. Regarding special profile wire, we preliminarily determined that this product does not fall within the scope as it is written because its cross section is in the shape of a concave polygon. Therefore, we did not include special profile wire in these investigations. (For details, see the Memorandum to Susan Kuhbach and Louis Apple from the Stainless Steel Bar Team, dated July 26, 2001, entitled “Scope Exclusion Requests,” and the Memorandum to Louis Apple from the Stainless Steel Bar Team, dated July 26, 2001, entitled “Whether Special Profile Wire Product is Included in the Scope of the Investigation.”)

Finally, we note that in the concurrent countervailing duty investigation of stainless steel bar from Italy, the Department preliminarily determined that hot-rolled stainless steel bar is within the scope of these investigations. (See Preliminary Affirmative Countervailing Duty Determination and Alignment of Final Countervailing Duty Determination with Final Antidumping Duty Determination: Stainless Steel Bar from Italy, 66 FR 30414 (June 6, 2001).)

With the exception of one respondent in the Germany investigation which filed comments on the Department's preliminary scope decision with respect to SQOFES with which the Department disagrees and has addressed in the January 15, 2002, Decision Memorandum in that case, no other parties filed comments on our preliminary scope decisions. Furthermore, no additional information has otherwise come to our attention to warrant a change in our preliminary decisions. Therefore, we have made no changes for purposes of the final determinations.

Period of Investigation

The period of investigation (“POI”) for this investigation is October 1, 1999, through September 30, 2000.

Use of Facts Available

As explained in the Preliminary Determination, we based Cogne's antidumping duty rate on adverse facts available, in accordance with section 776 of the Act.

Section 776(a)(2) of the Act provides that “if an interested party or any other person (A) withholds information that has been requested by the [Department] under this title, (B) fails to provide such information by the deadlines for submission of the information or in the form and manner requested, subject to subsections (c)(1) and (e) of section 782, (C) significantly impedes a proceeding under this title, or (D) provides such information but the information cannot be verified as provided in section 782(i), the [Department] shall, subject to section 782(d), use the facts otherwise available in reaching the applicable determination under this title.” Use of facts available is warranted in this case because Cogne failed to respond to the Department's questionnaire.

Section 776(b) of the Act further provides that adverse inferences may be used when an interested party has failed to cooperate by not acting to the best of its ability to comply with a request for information. Cogne decided not to respond to the Department's questionnaire. On this basis the Department determined that it failed to cooperate by not acting to the best of its ability in this investigation. Thus, the Department has determined that, in selecting from among the facts otherwise available, an adverse inference is warranted and has assigned Cogne an antidumping rate based on adverse inferences.

In accordance with our standard practice, we determine the margin used as adverse facts available by selecting the higher of (1) the highest margin stated in the notice of initiation, or (2) the highest margin calculated for any respondent. See, e.g., Notice of Preliminary Determinations of Sales at Less Than Fair Value: Certain Large Diameter Carbon and Alloy Seamless Standard, Line and Pressure Pipe From Japan and Certain Small Diameter Carbon and Alloy Seamless Standard, Line and Pressure Pipe From Japan and the Republic of South Africa, 64 FR 69718, 69722 (December 14, 1999), followed in Notice of Final Determinations of Sales at Less Than Fair Value: Certain Large Diameter Carbon and Alloy Seamless Standard, Line and Pressure Pipe From Japan and Certain Small Diameter Carbon and Alloy Seamless Standard, Line and Pressure Pipe From Japan and the Republic of South Africa, 65 FR 25907 (May 4, 2000); and Notice of Preliminary Determination of Sales at Less Than Fair Value: Stainless Steel Wire Rod from Korea and Germany, 63 FR 10826, 10847 (March 5, 1998), followed in Notice of Final Determination of Sales at Less Than Fair Value: Stainless Steel Wire Rod from Korea and Germany, 63 FR 40433 (July 29, 1998).

Section 776(c) of the Act provides that, when the Department relies on secondary information (such as the petition) in using the facts otherwise available, it must, to the extent practicable, corroborate that information from independent sources that are reasonably at its disposal. The Statement of Administrative Action accompanying the URAA, H.R. Doc. No. 103-316 (1994) (“SAA”), states that “corroborate” means to determine that the information used has probative value. See SAA at 870.

In this case, when analyzing the petition for purposes of the initiation, the Department reviewed all of the data upon which the petitioners relied in calculating the estimated dumping margins and determined that the margins in the petition were appropriately calculated and supported by adequate evidence in accordance with the statutory requirements for initiation. In order to corroborate the petition margins for purposes of using them as adverse facts available, we re-examined the price and cost information provided in the petition in light of information developed during the investigation. For further details, see the Memorandum to Richard W. Moreland, “Preliminary Determination of Stainless Steel Bar from Italy: Corroboration Memorandum,” dated July 26, 2001.

As we noted in the Preliminary Determination, in accordance with Section 776(c) of the Act, we were able to partially corroborate the information in the petition using information from independent sources that were reasonably at our disposal. Using this information, we were able to corroborate the price-to-price margin calculations in the petition, but were unable to fully corroborate the constructed value margin calculations in the petition. We have re-examined the evidence on the record of this investigation and continue to find that we are unable to corroborate the constructed value margin calculations. As a result, we are continuing to assign Cogne the highest price-to-price margin rate contained in the petition, 33.00 percent, for purposes of the final determination. See Comment 17 of the January 15, 2002 Decision Memorandum.

Fair Value Comparisons

To determine whether sales of stainless steel bar from Italy to the United States were made at less than fair value, we compared export price (“EP”) or constructed export price (“CEP”) to normal value (“NV”). Our calculations followed the methodologies described in the Preliminary Determination, except as noted below and in each individual respondent's calculation memorandum, dated January 15, 2002, which is on file in the Import Administration's Central Records Unit (“CRU”), Room B-099 of the main Department of Commerce building.

Export Price and Constructed Export Price

For certain sales to the United States, we used EP as defined in section 772(a) of the Act. For the remaining sales to the United States, we used CEP as defined in section 772(b) of the Act. We calculated EP and CEP based on the same methodologies described in the Preliminary Determination, with the following exceptions:

Bedini

Based on information provided by Bedini since the Preliminary Determination, we revised Bedini's calculations to include its updated and verified further manufacturing costs. We also corrected several clerical errors related to Bedini's reported expense fields based on Bedini's CEP verification. We also revised the order of Bedini's product matching characteristics to follow the Department's instructions. Finally, we revised Bedini's U.S. control numbers so that they would reflect the size as imported instead of the size as sold to the first unaffiliated U.S. customer. For a detailed description of all U.S. sales changes made to Bedini's margin calculations for the final determination, see Bedini Final Determination Calculation Memorandum.

Foroni

Based on our findings at the CEP verification, we made revisions to Foroni's U.S. sales database to correct certain errors related to its reported advertising expenses, billing adjustments, indirect selling expenses, U.S. inventory carrying costs, U.S. duty rates and U.S. commissions. See Memorandum from Team to John Brinkmann, “Final Determination Calculation Memorandum for Foroni S.p.A. and Foroni Metals of Texas' (“Foroni Final Determination Calculation Memorandum”) dated January 15, 2002 and Memorandum from Anthony Grasso to John Brinkmann, “Verification of the Constructed Export Price Sales of Foroni S.p.A.”s U.S. Affiliate, Foroni Metals of Texas, in the Antidumping Duty Investigation of Stainless Steel Bar from Italy,” dated October 23, 2001.

Rodacciai

Based on information contained in an August 8, 2001 submissions and our findings at the CEP verification, we corrected several clerical errors to Rodacciai's CEP sales database, including the addition of several CEP sales that Rodacciai had inadvertently excluded from the U.S. database. See Rodacciai's August 8, 2001 submission and Rodacciai Final Determination Calculation Memorandum.

Based on our findings at the CEP verification, we made several corrections to Rodacciai's reported size coding and revised Rodacciai's reported U.S. indirect selling expense ratio to include the depreciation incurred by Sovereign in the last three months of the POI.

We have revised the treatment of Rodacciai's reported U.S. credit adjustment variables, which were reported as positive integers, by deducting these values from home market and U.S. gross prices, respectively, rather than adding them as we did in the Preliminary Determination.

For purposes of calculating Rodacciai's U.S. credit expenses, we are adjusting the gross unit price for credit adjustments and any on-invoice discounts. Further, we are using the last day of verification, August 17, 2001, as the date of payment for unpaid U.S. sales, and have recalculated U.S. credit expenses accordingly.

Valbruna

Based on our findings at the CEP verification, we made several changes to Valbruna's reported CEP sales database. See Valbruna Final Determination Calculation Memornadum.

(1) We increased the gross unit price on several observations for which an alloy surcharge was not included.

(2) We applied a price reduction to all reported sales observations related to a particular U.S. sales invoice.

(3) We have changed the U.S. rebate field to reflect the correct rebate percentage for 1999 sales.

(4) We set the U.S. brokerage expense field to zero for all EP sales because all EP sales were made on a C&F basis where the U.S. customer takes responsibility for all duties and charges.

(5) We decreased other transportation expenses for sales made out of the Houston warehouse.

(6) We have revised Valbruna's U.S. sales database to treat certain cleaning costs incurred on one sale of subject merchandise as a warranty expense, and have made a corresponding reduction to indirect selling expenses in order to avoid double-counting this expense.

(7) We have revised Valbruna's U.S. sales database to include certain costs incurred to cut the subject merchandise before it was placed into the consignment inventory for one of Valbruna's customers on all sales to this particular customer.

(8) We have revised Valbruna's U.S. sales database to deduct the per-unit repacking expense from the reported sales price for all sales to one customer whose shipments were subject to U.S. repacking, but for whom there was not a separate line item on the sales invoices.

(9) We adjusted the databases to reflect an increase in the U.S. indirect selling expenses ratio due to the inadvertent omission of certain warehousing expenses and short-term interest revenue, and revised the ratio such that “Other Income” items were not deducted from the total U.S. indirect selling expenses.

Normal Value

We used the same methodology as that described in the Preliminary Determination to determine the cost of production (“COP”), whether comparison market sales were at prices below the COP, and the NV, with the following exceptions:

1. Cost of Production Analysis

Foroni

As discussed in the memorandum from Robert Greger to Neal Halper, “Cost of Production and Constructed Value Calculation Adjustments for the Final Determination,” dated January 15, 2002 (“Final Accounting Calculation Memo—Foroni”), we adjusted Foroni's reported direct materials costs (“DIRMAT”) to account for two errors made in calculating its reported costs: (1) Foroni underestimated the nickel content of its stainless steel scrap inputs and (2) used an average rather than an actual exchange rate in converting its U.S. dollar purchases.

Furthermore, as discussed in the Final Accounting Calculation Memo—Foroni, we also decreased the G&A expense ratio and increased the financial expense ratio.

Valbruna

As discussed in the memorandum from Robert Greger to Neal Halper, “Cost of Production and Constructed Value Calculation Adjustments for the Final Determination,” dated January 15, 2002 (“Final Accounting Calculation Memo—Valbruna”), we increased the reported total cost of manufacturing (“TOTCOM”) to include an unreconciled difference between Valbruna's cost accounting system and the reported cost files, and to include the portion of depreciation on revalued asset amounts related to subject merchandise that were included in Valbruna's unconsolidated financial statements. Furthermore, we excluded Valbruna's claimed inventory charge adjustment from the calculation of the reported TOTCOM.

Finally, as discussed in the Final Accounting Calculation Memo—Valbruna, we increased the G&A ratio and decreased the financial expense ratio.

2. Calculation of NV

Bedini

Based on Bedini's November 14 and November 29, 2001 submissions, we revised our calculations to include new home market sales Bedini found in preparation for its home market verification.

Also, consistent with the Preliminary Determination, we have dropped from our calculation all home market sales of Ugine Savoie-Imphy (Bedini's parent company and a respondent in the companion French proceeding) stainless steel wire rod that were subcontracted to Bedini as part of a tolling operation for processing into subject merchandise.

For a detailed description of all home market changes made to Bedini's margin calculations for the final determination, see Bedini Final Determination Calculation Memorandum.

Foroni

On August 3, 2001, Foroni submitted a value for the packing costs incurred on exports of subject merchandise from Italy to the United States. For the final determination we used this packing rate in place of the facts available rate applied in the Preliminary Determination and accordingly reduced fixed overhead by excluding the total packing expenses. See Final Accounting Calculation Memo—Foroni and Foroni Final Determination Calculation Memorandum.

Rodacciai

Based on information contained in an August 8, 2001 submissions and our findings at the CEP verification, we corrected several clerical errors to Rodacciai's home market sales database. See Rodacciai's August 8, 2001 submission and Rodacciai Final Determination Calculation Memorandum.

We have corrected a misreported customer relationship for one of Rodacciai's affiliated customers.

We have revised the treatment of Rodacciai's reported home market credit adjustment variables, which were reported as positive integers, by deducting these values from home market and U.S. gross prices, respectively, rather than adding them as we did in the Preliminary Determination.

For purposes of calculating Rodacciai's home market credit expenses, we are adjusting the gross unit price for credit adjustments and any on-invoice discounts.

We corrected certain variable names used in the weight-averaging of Rodacciai's home market adjustment variables.

Valbruna

We revised the home market indirect selling expense ratio to reflect a minor change to the final year-end trial balance.

Currency Conversions

We made currency conversions in accordance with section 773A of the Act in the same manner as in the Preliminary Determination.

Verification

In this investigation, and in the companion SSB investigations from Germany, France, the United Kingdom and Korea, verifications were scheduled for all responding companies during the period August through October 2001. Based on the security concerns and logistical difficulties brought about by the events of September 11, for some companies in these countries we were unable to fully complete our verifications as scheduled. However, for these companies, we did verify major portions of the company's questionnaire responses.

While the statute at 782(i)(1) and the Department's regulations at 351.307(b)(1)(i) direct the Department to verify all information relied upon in a final determination of an investigation, the Department's verification process is akin to an “audit” and that the Department has the discretion to determine the specific information it will examine in its audits. See PMC Specialties Group, Inc. v. United States, 20 C.I.T. 1130 (1996). The courts concur that verification is a spot check and is not intended to be an exhaustive examination of the respondent's records. See Mansato v. United States, 698 F.Supp. 275, 281 (Ct. Int'l Trade 1988). Furthermore, the courts have noted that Congress has given Commerce wide latitude in formulating its verification procedures. See Micron Tech., Inc. v. United States, 117 F.3d 1386, 1396 (Fed. Cir. 1997).

In these investigations, we believe that we have met the standard for having verified the information being used in this final determination, despite our inability to complete all of the verifications as originally scheduled. Although the amount of information verified was less than planned, the respondents did not control what was verified and what was not verified. It was the Department, not the companies, that established the original verification schedule and determined the order in which the segments would be verified. Moreover, each company was fully prepared to proceed with each segment of the original verification based upon the Department's schedule and could not have anticipated that the Department would perhaps not actually verify all segments. Finally, we note that all responding companies and the petitioners fully cooperated with the Department's post-September 11 efforts to conduct as many segments of verification as practicable.

Based on the information verified, we are relying on the responses as submitted, subject to the minor corrections previously noted elsewhere in this notice and the Decision Memorandum.

Analysis of Comments Received

All issues raised in the case and rebuttal briefs by parties to this investigation are addressed in the January 15, 2002, Decision Memorandum, which is hereby adopted by this notice. Attached to this notice as an appendix is a list of the issues which parties have raised and to which we have responded in the Decision Memorandum. Parties can find a complete discussion of all issues raised in this investigation and the corresponding recommendations in this public memorandum which is on file in the Department's CRU. In addition, a complete version of the Decision Memorandum can be accessed directly on the Web at http://ia.ita.doc.gov/frn/frnhome.htm. The paper copy and electronic version of the Decision Memorandum are identical in content.

Continuation of Suspension of Liquidation

In accordance with section 735(c)(1)(B) of the Act, we are directing the U.S. Customs Service (“Customs”) to continue to suspend liquidation of all imports of stainless steel bar from Italy, except for subject merchandise produced by Bedini (which has a de minimis weighted-average margin), that are entered, or withdrawn from warehouse, for consumption on or after August 2, 2001, the date of publication of the Preliminary Determination in the Federal Register. Furthermore, in accordance with section 735(c)(1)(C) of the Act, we are directing Customs to suspend liquidation of all imports of subject merchandise by Valbruna (which had a de minimis weighted-average margin for the Preliminary Determination) that are entered, or withdrawn from warehouse, for consumption on or after the date of publication of this notice in the Federal Register. Customs shall require a cash deposit or the posting of a bond equal to the weighted-average amount by which the NV exceeds the EP or CEP, as appropriate, as indicated in the chart below. These suspension of liquidation instructions will remain in effect until further notice.

The weighted-average dumping margins are as follows:

Exporter/manufacturer | Weighted-average margin percentage
Acciaierie Valbruna Srl/Acciaierie Bolzano S.p.A | 2.50
Acciaiera Foroni SpA | 7.07
Trafilerie Bedini, Srl | 1.70
Rodacciai S.p.A | 5.89
Cogne Acciai Speciali Srl | 33.00
All Others* ** | 3.81
* Pursuant to 19 CFR 351.204(d)(3), we have excluded rates calculated for voluntary respondents from the calculation of the all-others rate under section 735(c)(5) of the Act.
** Pursuant to section 735(c)(5)(A), we have excluded from the calculation of the all-others rate margins which are zero or de minimis, or determined entirely on facts available.

For Bedini, because its estimated weighted-average final dumping margin is de minimis, we are directing Customs to terminate suspension of liquidation of Bedini's entries and refund all bonds and cash deposits posted on subject merchandise produced by Bedini.

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order.

This notice also serves as a reminder to parties subject to administrative protective order (“APO”) of their responsibility concerning the disposition of proprietary information disclosed under APO in accordance with 19 CFR 351.305. Timely notification of return or destruction of APO materials, or conversion to judicial protective order, is hereby requested. Failure to comply with the regulations and the terms of an APO is a sanctionable violation.

This determination is issued and published in accordance with sections 735(d) and 777(i)(1) of the Act.

Dated: January 15, 2002.
Faryar Shirzad,
Assistant Secretary for Import Administration.

Appendix

List of Comments in the Issues and Decision Memorandum

Comment 1: Treatment of Sales Above Normal Value.

Comment 2: Commission Offset.

Comment 3: Model Match Methodology.

Comment 4: Differences in Bedini LOT and Bedini CEP Offset.

Comment 5: Bedini HM Commission Expenses.

Comment 6: Clerical Errors in the Calculation of Bedini U.S. Credit Expenses.

Comment 7: Bedini Reconstruction of Identical CONNUMs.

Comment 8: Collapsing the Sales Prices and Production Costs of Bedini and U-SI.

Comment 9: Application of Adverse Facts Available for Bedini Due to Home Market Reporting Flaws.

Comment 10: Bedini HM Billing Adjustments.

Comment 11: Partial Adverse Facts Available for Unreported Bedini U.S. Sales.

Comment 12: Revisions to the Calculation of Certain Bedini Expense Fields.

Comment 13: Adverse Facts Available for All Bedini Expenses Reported on an Average, Not A Transaction-Specific, Basis.

Comment 14: Methodology for Calculating Bedini's U.S. Credit Expenses.

Comment 15: Adjustments to Bedini's Reported Costs to Reconcile With the General Ledger.

Comment 16: Correction to Bedini's Verification Report.

Comment 17: Application of Adverse Facts Available to Cogne.

Comment 18: Use of Facts Available to Value Foroni's Packing Costs.

Comment 19: Foroni's Advertising Expenses.

Comment 20: Foroni's Calculation of Direct Materials.

Comment 21: Exclusion of Foroni's Directors' Fees from the G&A Expense Ratio.

Comment 22: Foroni's Short-Term Bond Interest Offset.

Comment 23: Foreign Exchange Gains & Losses.

Comment 24: Foroni's Yield Loss.

Comment 25: Use of Rodacciai's Reported Data.

Comment 26: Rodacciai's Reported Home Market Date of Sale.

Comment 27: Additional Sales Submitted by Rodacciai.

Comment 28: Rodacciai's U.S. Indirect Selling Expenses.

Comment 29: Rodacciai's U.S. Warehousing Expenses.

Comment 30: Rodacciai's U.S. Sales with Missing Date of Payment.

Comment 31: Rodacciai's G&A Expense Ratio.

Comment 32: Rodacciai's Interest Expense Ratio.

Comment 33: Recalculation of Certain Home Market Expenses Reported by Rodacciai.

Comment 34: Rodacciai's Home Market Credit Adjustments.

Comment 35: Corrections to and Based on Valbruna's CEP Verification Report.

Comment 36: Valbruna's Opportunity Cost on VAT Rebates.

Comment 37: Valbruna's Levels of Trade.

Comment 38: Treatment of Valbruna's Consignment Holding Period.

Comment 39: Valbruna's U.S. Brokerage Expenses.

Comment 40: Valbruna's U.S. Warranty Expenses.

Comment 41: Valbruna's Unreported Price Adjustment.

Comment 42: Valbruna's U.S. Repacking Expenses.

Comment 43: Use of Actual Prices Paid by Valbruna's Customers.

Comment 44: Valbruna's U.S. Indirect Selling Expense Ratio.

Comment 45: Valbruna's Home Market Inventory Carrying Costs.

Comment 46: Valbruna's G&A Expense Ratio.

Comment 47: Valbruna's Financial Expense Ratio.

Comment 48: Inclusion of Depreciation Expense in Valbruna's Reported Manufacturing Costs.

Comment 49: Valbruna's Claimed Inventory Adjustment.

Comment 50: Treatment of Unreconciled Differences in Valbruna's Cost of Manufacture.

Comment 51: Foreign Exchange Gains and Losses on Accounts Payable.

Comment 52: Foreign Exchange Gains and Losses on Financing.

[FR Doc. 02-1656 Filed 1-22-02; 8:45 am]

BILLING CODE 3510-DS-P